DEPARTMENT OF COMMERCE

National Institute of Standards and Technology

[Docket No: 080411556-8593-01]

Construction Grant Program Notice of Availability of Funds

AGENCY: National Institute of Standards and Technology (NIST), United States Department of Commerce.

ACTION: Notice of Availability of Funds; Request for Proposals.

SUMMARY: The National Institute of Standards and Technology (NIST), United States Department of Commerce (DoC), is soliciting grant proposals for construction of research science buildings. Grant funding is available to institutions of higher education and non-profit organizations on a competitive basis.

DATES: Proposals must be received no later than 3 p.m. Eastern Time, Monday, July 21, 2008. Review, selection, and grant award processing is expected to be completed by the end of September 2008.

ADDRESSES: Proposals must be submitted to NIST as follows:

Paper submission: Send to National Institute of Standards and Technology, 100 Bureau Drive, Stop 4701, Gaithersburg, MD 20899-4701.

Electronic submission: http://www.grants.gov.

FOR FURTHER INFORMATION CONTACT: Barbara Lambis via e-mail at barbara.lambis@nist.gov or telephone (301) 975-4447.

SUPPLEMENTARY INFORMATION: Additional Information. The Consolidated Appropriations Act, 2008 (Pub. L. 110-161) (the “Act”) appropriated “$30,080,000 * * * for a competitive construction grant program for research buildings” to NIST. Additional information on the program was provided in an explanatory statement that under Section 4 of the Act has the same effect as a Conference Report: “The research buildings should span all the applicable sciences, as they relate to the Department of Commerce. These grants shall be awarded to colleges, universities, and other non-profit science research organizations on a competitive basis.” 153 Congressional Record H15790 (Dec. 17, 2007). The Federal Funding Opportunity (FFO) announcement for this request for proposals is available at http://www.grants.gov.

Statutory Authority. Consolidated Appropriations Act, 2008 (Pub. L. 110-161).

CFDA. 11.615 Construction Grant Program.

Program Description. The goals and objectives of the program are to provide competitively awarded grant funds for research science buildings through the construction of new buildings or expansion of existing buildings. For purposes of this program, “research science building” means a building or facility whose purpose is to conduct scientific research, including laboratories, test facilities, measurement facilities, and/or observatories.

Funding Availability. Approximately $29 million is available for construction of research science buildings. We expect to issue awards with Federal shares in the $10 million-$15 million range.

Eligibility Criteria: Institutions of higher education and non-profit organizations are eligible to apply for awards under this Program.

Evaluation Criteria. The evaluation criteria that will be used in evaluating proposals are as follows:

1. Scientific and technical merit of the proposed use and need for Federal funding (50 percent).

(Addresses the science and technology activities the building/facility will support and why the research infrastructure is needed to meet those science and technology activities; the building's/facility's targeted impact on the science and technology knowledge and infrastructure base; and the need for Federal funding, due to a lack of alternative funding sources.)

2. The quality of the design of the research science building (25 percent).

(Addresses the quality of design information for the building/facility to establish that the design of the building/facility has the ability to meet the safety, physical, environmental and experimental/operational requirements of the science and technology activities the building/facility is expected to support.);

3. Adequacy of the detailed Project Execution Plan (PEP) for construction of the research science building (25 percent). The PEP must address:

a. Project Scope and Requirements

(Addresses the type of Work/task Breakdown Structure (WBS) approach and the work/task elements used to organize and define the total scope of the project by tasks; the descriptions of each work/task breakdown element; the organization and documentation of the task components in a way that aggregates the subtasks into unified task descriptions; and enables their use throughout project management life-cycle to identify and monitor project progress, as well as link tasks to budget and schedule plans.);

b. Adequacy of the Proposed Project Schedule and Budget (Although cost sharing is not required it is encouraged for a proposal to be competitive and will be considered as a selection factor.)

(Addresses the task schedule and budget descriptions associated with the Work/task Breakdown Structure being utilized. Addresses the sources and levels of cost sharing if proposed.);

c. Capability to Manage the Project; and

(Addresses the approach for project management tracking and control, from kick-off through close-out, which may consist of: tools and techniques (manual and automated systems) used to gather, integrate and disseminate the outputs of project management processes during the life of the award; an analysis of risks and how they may be mitigated; and cost control mechanisms. Addresses the management plan for direction and implementation of the project, including capability descriptions of the performing organizations and associated key personnel.); and

d. Financial Commitments to Implement the PEP.

(Addresses the current and any pending commitments required for the building/facility to be established and become fully operational, by the organizational name/contact that has the fiduciary authority over the funds).

Selection Factors. The Selecting Official shall recommend proposals for award based upon the Evaluation Board's rank order of the proposals and the following selecting factors:

1. Degree to which project complements DoC science and technology program priorities (see Program Priorities below), including the amount and quality of experience that the institution that will use the facility has had with novel research.

2. Experience promoting national impacts through research outcomes, training, cooperation with Federal programs, opportunities for visiting researchers.

3. Assuring a balance/distribution among the program priorities (see Program Priorities below).

4. Availability of funds.

5. Credibility of plans to transition to operational status (i.e., staffing and equipping the building, and operational readiness).

6. Whether this project duplicates other projects funded by DoC or other Federal agencies.

7. Degree to which the applicant is proposing cost share. (A minimum of 25% would be viewed favorably; 50% even more favorably.)

8. Adequacy of information needed to assess compliance with and to make a determination under the National Environmental Policy Act of 1969, as amended.

9. Applicant's prior Federal award performance.

Program Priorities: All applicable fields of science that relate directly to the programs of DoC's three science organizations: NIST, the National Oceanic and Atmospheric Administration (NOAA), and the National Telecommunications and Information Administration (NTIA). Specifically, these include science related to measurements, oceans or atmosphere, or telecommunications. More information about those programs can be found on the agencies' Web sites (http://www.nist.gov, http://www.noaa.gov, and http://www.ntia.doc.gov).

Selection Process. An initial administrative review will be conducted to determine compliance with requirements and completeness of the proposal. Responsive and complete proposals will be considered further. Proposals that are nonresponsive and/or incomplete will be eliminated. Each of the remaining proposals will receive three independent reviews, which will include three written evaluations and scores, based on the evaluation criteria. No consensus advice will be given. The individual proposal evaluations and scores will be considered by an Evaluation Board (a committee made up of four Federal employees), and this Board will present ranking and funding recommendations based on the evaluation criteria to a Selecting Official for further consideration. In making final selections, the Selecting Official (Chief Facilities Management Officer, NIST) will select funding recipients based upon the Evaluation Board's rank order of the proposals and the selection factors. The selection of proposals by the Selecting Official is final. NIST reserves the right to negotiate the cost and scope of the proposed work with the applicants that have been selected to receive awards. This may include requesting that the applicant delete from the scope of work a particular task that is deemed by NIST to be inappropriate for support against the evaluation criteria or selection factors. NIST also reserves the right to reject a proposal where information is uncovered that raises a reasonable doubt as to the responsibility of the applicant. The final approval of selected proposals and award of grants will be made by the NIST Grants Officer. The award decision of the NIST Grants Officer is final.

Executive Order 12372 (Intergovernmental Review of Federal Programs). Proposals under this program are not subject to Executive Order 12372.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

E.O. 13132 (Federalism). This notice does not contain policies with Federalism implications as defined in Executive Order 13132.

E.O. 12866 (Regulatory Planning and Review). This notice is not a significant regulatory action under Sections 3(f)(3) and 3(f)(4) of Executive Order 12866, as it does not materially alter the budgetary impact of a grant program and does not raise novel policy issues. This notice is not an “economically significant” regulatory action under Section 3(f)(1) of the Executive Order, as it does not have an effect on the economy of $100 million or more in any one year, and it does not have a material adverse effect on the economy, a sector of the economy, productivity, competition, jobs, the environment, public health or safety, or State, local, or tribal governments or communities.

Paperwork Reduction Act. Notwithstanding any other provision of the law, no person is required to, nor shall any person be subject to penalty for failure to, comply with a collection of information, subject to the requirements of the Paperwork Reduction Act (PRA), unless that collection of information displays a currently valid Office of Management and Budget (OMB) Control Number. This document contains collection-of-information requirements subject to the PRA. The use of Standard Forms 424, 424C, 424D, and LLL; and CD-346 have been approved by OMB under the respective control numbers 4040-0004, 4040-0008, 4040-0009, 0348-0046, and 0605-0001.

Administrative and National Policy Requirements. Department of Commerce Pre-Award Notification Requirements for Grants and Cooperative Agreements, which are contained in the Federal Register Notice of February 11, 2008 (73 FR 7696-01), are applicable to this solicitation.

Dated: May 20, 2008.
Richard F. Kayser,
Chief Scientist.

[FR Doc. E8-11719 Filed 5-23-08; 8:45 am]

BILLING CODE 3510-13-P